DEPARTMENT OF COMMERCE

International Trade Administration

(A-549-820)

Notice of Rescission of Antidumping Duty Administrative Review: Prestressed Concrete Steel Wire Strand From Thailand

AGENCY: Import Administration, International Trade Administration, Department of Commerce.

SUMMARY: On February 24, 2006, the Department of Commerce (the Department) published a notice in the Federal Register announcing the initiation of an administrative review of the antidumping duty order on prestressed concrete steel wire strand from Thailand, covering the period January 1, 2005, to December 31, 2005. See Notice of Initiation of Antidumping and Countervailing Duty Administrative Reviews, Thailand: Prestressed Concrete Steel Wire Strand, 71 FR 9519 (February 24, 2006). The review covers Siam Industrial Wire Co. Ltd. (SIW). We are now rescinding this review as a result of SIW's timely withdrawal of its request for an administrative review.

EFFECTIVE DATE: March 28, 2006.

FOR FURTHER INFORMATION CONTACT: Constance Handley or Shane Subler at (202) 482-0631 or (202) 482-0189, respectively; AD/CVD Operations, Office 1, Import Administration, International Trade Administration, U.S. Department of Commerce, 14th Street & Constitution Avenue, NW, Washington, DC 20230.

SUPPLEMENTARY INFORMATION:

Background

In accordance with 19 CFR 351.213(b)(2), on January 31, 2006, SIW requested an administrative review of the antidumping duty order on prestressed concrete steel wire strand from Thailand. On February 24, 2006, in accordance with 19 CFR 351.221(c)(1)(i), we initiated the administrative review of this order for the period January 1, 2005, to December 31, 2005 (71 FR 9519). SIW withdrew its request for an administrative review on March 7, 2006.

Rescission of Administrative Review

The Department's regulations at 19 CFR 351.213(d)(1) provide that the Department will rescind an administrative review if a party that requested a review withdraws the request within 90 days of the publication date of the notice of initiation of the requested review. SIW, the only interested party to request a review, withdrew its request for an administrative review within the 90-day period. Therefore, the Department is rescinding this administrative review. The Department will issue appropriate instructions directly to U.S. Customs and Border Protection.

This notice is issued and published in accordance with section 751 of the Tariff Act of 1930, as amended, and 19 CFR 351.213(d)(4).

Dated: March 22, 2006.
Stephen J. Claeys,
Deputy Assistant Secretary for Import Administration.

[FR Doc. E6-4486 Filed 3-27-06; 8:45 am]

BILLING CODE 3510-DS-S